SMALL BUSINESS ADMINISTRATION

[Disaster Declaration #11203 and #11204]

Missouri Disaster Number MO-00025

AGENCY: U.S. Small Business Administration.

ACTION: Amendment 1.

SUMMARY: This is an amendment of the Presidential declaration of a major disaster for the State of Missouri (FEMA-1749-DR), dated 03/27/2008.

Incident: Severe Storms and Flooding.

Incident Period: 03/17/2008 and continuing.

Effective Date: 04/01/2008.

Physical Loan Application Deadline Date: 05/27/2008.

EIDL Loan Application Deadline Date: 12/23/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Presidential disaster declaration for the State of Missouri, dated 03/27/2008 is hereby amended to include the following areas as adversely affected by the disaster:

Primary Counties:

Butler, Callaway, Cape Girardeau, Gasconade, Howard, Laclede, Madison, Mcdonald, Osage, Ripley, Scott, Shannon, Saint Louis, Stoddard, Taney, Webster.

Contiguous Counties: Missouri:

Audrain, Boone, Chariton, Cole, Cooper, Dunklin, Mississippi, Montgomery, New Madrid, Ozark, Randolph, Saint Louis City, Saline.

Arkansas:

Benton, Boone, Clay, Marion.

Illinois:

Alexander, Madison, Saint Clair, Union.

Oklahoma:

Delaware.

The number assigned to this disaster for physical damage has also been amended to 112036 to match the disaster type for flooding. All other information in the original declaration remains unchanged.

(Catalog of Federal Domestic Assistance Numbers 59002 and 59008)

Herbert L. Mitchell,
Associate Administrator for Disaster Assistance.

[FR Doc. E8-7366 Filed 4-7-08; 8:45 am]

BILLING CODE 8025-01-P